DEPARTMENT OF ENERGY

Federal Energy Regulatory Commission

Notice of Proposed Change in Project Boundary and Soliciting Comments, Motions to Intervene, and Protests

April 24, 2001.

a. Application Type: Change in Project Boundary

b. Project No: 2576-025

c. Date Filed: July 18, 2000

d. Applicant: Northeast Generation Services

e. Name of Project: Housatonic Project

f. Location: On Candlewood Lake, Town of New Milford, County of Hartford, State of Connecticut. The project does not utilize federal or tribal lands.

g. Filed Pursuant to: Federal Power Act, 16 U.S.C. 791(a)-825(r).

h. Applicant Contact: Robert Gates, Northeast Generation Services, 41 Park Lane, New Milford, Connecticut 06776, telephone 860-354-8840.

i. FERC Contact: James T. Griffin, (202) 219-2799, james.griffin@ferc.fed.us.

j. Deadline for filing comments and or motions: May 20, 2001.

All documents (original and eight copies) should be filed with: David P. Boergers, Secretary, Federal Energy Regulatory Commission 888 First Street, NE, Washington, DC 20426. Comments, protests and interventions may be filed electronically via the Internet in lieu of paper. See 18 CFR 385.200(a)(1)(iii) and the instructions on the Commission's web site at http:www.ferc.fed.us/efi/doorbell.htm.

Please include the project number (P-2576-025) on any comments or motions filed.

The Commission's rules of practice and procedure require all interveners filing documents with the Commission to serve a copy of that document on each person on the official service list for the project. Further, if an intervener files comments or documents with the Commission relating to the merits of an issue that may affect the responsibilities of a particular resource agency, they must also serve a copy of the document on that resource agency.

k. Description of Filing: Northeast Generation Services proposes to convey to the Town of New Milford and remove from the project boundary two parcels of land on Lake Candlewood that are part of the project lands for the Housatonic Project, Rocky River Development, for the expansion of Lynn Deming Municipal Park.

l. Locations of the Application: A copy of the application is available for inspection and reproduction at the Commission's Public Reference Room, located at 888 First Street, NE, Room 2A, Washington, DC 20426, or by calling 202-208-1371. This filing may be viewed on http://www.ferc.fed.us/online/rims.htm (call 202-208-2222 for assistance). A copy is also available for inspection and reproduction at the address in item h above.

m. Comments, Protests, or Motions to Intervene—Anyone may submit comments, a protest, or a motion to intervene in accordance with the requirements of rules of practice and procedure, 18 CFR 385.210, .211, .214. In determining the appropriate action to take, the Commission will consider all protests or other comments, filed, but only those who file a motion to intervene in accordance with the Commission's Rules may became a party to the proceeding. Any comments, protests, or motions to intervene must be received on or before the specified comment date above. Individuals desiring to be included on the Commission's mailing list should so indicate by writing to the Secretary of the Commission.

n. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant.

David P. Boergers,
Secretary.

[FR Doc. 01-10587 Filed 4-27-01; 8:45 am]

BILLING CODE 6717-01-M